DEPARTMENT OF TRANSPORTATION

Federal Motor Carrier Safety Administration

[Docket No. FMCSA-2022-0047]

Qualification of Drivers; Exemption Applications; Epilepsy and Seizure Disorders; Correction

AGENCY: Federal Motor Carrier Safety Administration (FMCSA), Department of Transportation (DOT).

ACTION: Notice of final disposition; correction.

SUMMARY: In a notice of final disposition published in the Federal Register on March 21, 2023, FMCSA announced its decision to exempt 15 individuals from the requirement in the Federal Motor Carrier Safety Regulations (FMCSRs) that interstate commercial motor vehicle (CMV) drivers have “no established medical history or clinical diagnosis of epilepsy or any other condition which is likely to cause loss of consciousness or any loss of ability to control a CMV.” The exemptions enable these individuals who have had one or more seizures and are taking anti-seizure medication to operate CMVs in interstate commerce. The notice was inadvertently published indicating the incorrect expiration date of the exemptions granted. This notice corrects that error.

DATES: This correction is effective March 21, 2023.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m., ET, Monday through Friday, except Federal holidays. If you have questions regarding viewing materials in the docket, contact Dockets Operations, (202) 366-9826.

SUPPLEMENTARY INFORMATION: On March 21, 2023, FMCSA published a notice of final disposition (88 FR 17080) with an effective date of March 21, 2023, which FMCSA announced its decision to exempt 15 individuals from the requirement in the FMCSRs that interstate CMV drivers have “no established medical history or clinical diagnosis of epilepsy or any other condition which is likely to cause loss of consciousness or any loss of ability to control a CMV.” The exemptions enable these individuals who have had one or more seizures and are taking anti-seizure medication to operate CMVs in interstate commerce. That notice was inadvertently published indicating the incorrect expiration date of the exemptions granted. Through this notice, FMCSA corrects the March 21, 2023, notice of final disposition by indicating the correct expiration date of the exemptions granted.¹

¹ The published version of the original notice is included in the docket for this correction.

In FR Doc. 2023-05754 appearing on page 17080 in the Federal Register on March 21, 2023, the following correction is made:

1. On page 17080, in the third column, “The exemptions expire on February 28, 2023.” is corrected to read “The exemptions expire on February 28, 2025.”

Larry W. Minor,
Associate Administrator for Policy.

[FR Doc. 2023-08156 Filed 4-17-23; 8:45 am]

BILLING CODE 4910-EX-P